DEPARTMENT OF ENERGY

Federal Energy Regulatory Commission

[Docket Nos. CP13-84-000; PF12-19-000]

Texas Eastern Transmission, LP; Notice of Application for Certificate of Public Convenience and Necessity and Authorization for Abandonment

Take notice that on February 27, 2013, Texas Eastern Transmission, LP (Texas Eastern), 5400 Westheimer Court, Houston, Texas 77056, filed with the Federal Energy Regulatory Commission an application under Sections 7(b) and 7(c) of the Natural Gas Act (NGA) for its proposed TEAM 2014 Project. Specifically, Texas Eastern requests authorization under NGA Sections 7(b) and 7(c) to construct, own, operate, and maintain certain pipeline and compression facilities and related appurtenances and to abandon in place certain compression facilities. Texas Eastern states that the project is necessary to increase capacity on the Texas Eastern system by 600,000 dekatherms per day from supply points in the Marcellus Shale region to delivery points in New York, New Jersey, Ohio, Mississippi and Louisiana. Texas Eastern also seeks authority to charge initial incremental recourse rates for firm service on the TEAM 2014 Project facilities and existing system rates for interruptible service on such facilities, as well as any waivers, authority, and further relief as may be necessary to implement the proposal described in its application. The complete application is on file with the Commission and open to public inspection.

On July 13, 2012, the Commission staff granted Texas Eastern's request to utilize the Pre-Filing Process and assigned Docket No. PF12-19 to staff activities involved with Texas Eastern's TEAM 2014 Project. Now, as of the filing of the application on February 27, 2013, the Pre-Filing Process for this project has ended. From this time forward, this proceeding will be conducted in Docket No. CP13-84-000, as noted in the caption of this Notice.

Texas Eastern states that the facilities that are proposed as part of the TEAM 2014 Project involve pipeline looping and aboveground modifications located on various segments of the Texas Eastern system in Pennsylvania, West Virginia, Ohio, Kentucky, Tennessee, Alabama, and Mississippi. This comprises approximately 33.6 miles of new 36-inch diameter pipeline loop and related aboveground facilities, compressor station upgrades and abandonments resulting in a net increase of 77,100 horsepower of compression, and certain other facility modifications to accommodate bi-directional flow along Texas Eastern's system. The cost of the TEAM 2014 Project is approximately $519.7 million.

Copies of this filing are available for review at the Commission in the Public Reference Room, or may be viewed on the Commission's Web site web at http://www.ferc.gov using the “eLibrary” link. Enter the docket number excluding the last three digits in the docket number field to access the document. For assistance, contact FERC at FERCOnlineSupport@ferc.gov or call toll-free, (886) 208-3676 or TTY, (202) 502-8659.

Questions, correspondence and communications concerning this application should be addressed to Berk Donaldson, Director, Rates and Certificates, Texas Eastern Transmission, LP, P.O. Box 1642, Houston, TX 77251-1642; Phone (713) 627-4488, FAX (713) 627-5947.

Texas Eastern has requested that the Commission issue a final order in this proceeding by November 21, 2013, to enable timely commencement of construction of the proposed facilities to meet a November 1, 2014 in-service date.

There are two ways to become involved in the Commission's review of this project. First, any person wishing to obtain legal status by becoming a party to the proceedings for this project should, before the comment date of this notice, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

The Commission strongly encourages electronic filings of comments, protests, and interventions via the internet in lieu of paper. See 18 CFR 385.2001(a) (1) (iii) and the instructions on the Commission's web site (www.ferc.gov) under the “e-Filing” link. Persons unable to file electronically should submit an original and 14 copies of the protest or intervention to the Federal Energy Regulatory Commission, 888 First Street NE., Washington, DC 20426.

Comment Date: 5:00 p.m. Eastern Time on April 5, 2013.

Dated: March 14, 2013.
Kimberly D. Bose,
Secretary.

[FR Doc. 2013-06465 Filed 3-20-13; 8:45 am]

BILLING CODE 6717-01-P